DEPARTMENT OF LABOR

Vacancy Posting for a District Chief Administrative Law Judge

Summary of Duties: The position of District Chief Administrative Law Judge is a field position within the organizational structure of the Office of Administrative Law Judges (OALJ) of the U.S. Department of Labor (DOL). The District Chief Judge position reports through one of the Associate Chief Judges to the Chief Judge, who reports to the Deputy Secretary of Labor. OALJ District Offices are geographically located within DOL's designated regions.

As District Chief Judge, the incumbent serves as head of one of OALJ's eight District Offices and is responsible for the management and administrative supervision of that office. The District Office is composed of Administrative Law Judges, attorney advisors who serve as law clerks to the judges, and legal assistants. Each office operates self-sufficiently in that most administrative and support functions such as time keeping, procurement, travel, personnel, and case management and processing are handled at the local level, with general policy guidance provided by the National Office.

The District Chief Judge is responsible for providing the overall administrative and case management leadership necessary to assure the thorough and timely processing of all formal proceedings before the District Office. The District Chief Judge performs the full range of administrative functions, including the formulation of District Office budgetary and personnel resource needs, execution of applicable personnel policies and practices, and management of the case assignment, case monitoring, and hearing processes. In addition, the District Chief Judge is expected to carry out the full range of duties as an Administrative Law Judge, including presiding at hearings in some of the most sensitive, difficult and controversial proceedings that come before the office.

Appointment Type: Excepted.

Qualifications: Applicant must currently hold, and must have held for the past three years, a Federal Administrative Law Judge Position, at the AL-3 level or above, or be eligible for reinstatement to an ALJ position based on prior experience as an ALJ at the AL-3 level or above. Licensure and authorization to practice law under the laws of a state, the District of Columbia, the Commonwealth of Puerto Rico, or any territorial court established under the laws of the United States.

An “active” bar status and/or membership in “good standing” for at least 10 years total in at least one jurisdiction in which the applicant is admitted. Judicial status is acceptable in lieu of “active” status in States that prohibit sitting judges from maintaining “active” status to practice law. Being in “good standing” is acceptable in lieu of “active” status in jurisdictions where the licensing authority considers “good standing” as having a current license to practice law. Applicant must have at least seven years of relevant litigation or administrative law experience. Relevant litigation experience can include: Preparing for, participating in, and/or conducting formal hearings, trials, or appeals at the federal, state, or local level; participating in settlement or plea negotiations in advance of such proceedings; hearing cases; preparing opinions; and participating in or conducting arbitration, mediation, or other alternative dispute resolution. Relevant administrative law experience is litigation experience in cases initiated before a governmental administrative body.

Applicant must have knowledge of statutes enforced by the Department of Labor, such as the Black Lung Benefits Act, Service Contract Act, Longshore and Harbor Workers' Compensation Act, Fair Labor Standards Act, whistleblower protections enforced by the Occupational Safety and Health Administration, or of other similar laws.

Desirable Qualifications: Experience in managing people, providing professional guidance, executive leadership, and oversight of legal or adjudicatory offices.

To Be Considered: Applicant must currently hold, and must have held for the past three years, a Federal Administrative Law Judge Position, at the AL-3 level or above, or be eligible for reinstatement to an ALJ position based on prior experience as an ALJ at the AL-3 level or above.

Closing Date: More information, including on the position duties, specific hiring policies, and application instructions, may be found on www.usajobs.gov, Vacancy Announcement No. DOL-AL-OALJ-19-03. Your application and ALL required supplemental documents must be received through www.usajobs.gov by 11:59 p.m. Eastern Time (ET) on the vacancy closing date.

Dated: April 17, 2019.
Bryan Slater,
Assistant Secretary for Administration & Management.

[FR Doc. 2019-08092 Filed 4-22-19; 8:45 am]

BILLING CODE 4510-20-P